SECURITIES AND EXCHANGE COMMISSION

[Release No. 25165/September 21, 2001]

Investment Company Act of 1940; Order Extending Prior Order Under Sections 6(c), 17(b) and 38(a) of the Investment Company Act of 1940 Granting Exemptions from Certain Provisions of the Act and Certain Rules Thereunder

In light of the recent events affecting the financial markets, the Commission finds that an order extending the exemptions granted in its order of September 14, 2001, Investment Company Act Release No. 25156 (“September 14 Order”): Is necessary and appropriate to the exercise of the powers conferred on it by the Act; is necessary and appropriate in the public interest and consistent with the protection of investors and the purposes fairly intended by the policy and provisions of the Act; and permits transactions the terms of which, including the consideration to be paid or received, are reasonable and fair and do not involve overreaching on the part of any person concerned.

The necessity for immediate action of the Commission does not permit prior notice of the Commission's action. Accordingly, IT IS ORDERED:

I. The Ability of Certain Registered Investment Companies To Borrow

The exemptions from sections 12(d)(3), 13(a)(2), 13(a)(3), 17(a) and 18(f)(1) granted in the September 14 Order are extended through September 28, 2001 subject to the terms and conditions set forth in the September 14 Order.

II. Interfund Lending Arrangements

Until September 28, 2001, any registered investment company currently able to rely on a Commission order permitting an interfund lending and borrowing facility (“IFL Order”) may make loans through the facility in an aggregate amount that does not exceed 25 per cent of its current net assets at the time of the loan notwithstanding any lower limitation in the IFL Order, as long as the loan otherwise is made in accordance with the terms and conditions of the IFL Order.

By the Commission.
Margaret H. McFarland,
Deputy Secretary.

[FR Doc. 01-24189 Filed 9-26-01; 8:45 am]

BILLING CODE 8010-01-M